DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). This information collection request has expired; however, reinstatement is requested because the collection of information is still required by OMB Circular A-11 and the Federal Management Regulations. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 4, 2010. If you anticipate difficulty in submitting comments within that period, contact the person listed below as soon as possible.

ADDRESSES: Written comments should be sent to the following: Helene Mattiello, Industrial Property Management Specialist, MA-632/L'Enfant Plaza Building, U.S. Department of Energy, 1000 Independence Avenue, SW., Washington, DC 20585-1615, helene.mattiello@hq.doe.gov.

FOR FURTHER INFORMATION CONTACT: Helene Mattiello, at the above address, or by telephone at (202) 287-1593, or by fax at (202) 287-1656.

SUPPLEMENTARY INFORMATION: This information collection request contains: (1) OMB No. 1910-1000; (2) Information Collection Request Title: Exchange/Sale Report, Excess Personal Property Furnished to Non-Federal Recipients, Agency Report of Motor Vehicle Data, Annual Motor Vehicle Fleet Report; (3) Type of Review: Renewal; (4) Purpose: See the Information Collection description above; (5) Respondents: 44 respondents for each of the four reports equals 176 total respondents; and (6) Estimated number of burden hours: The total estimated number of burden hours is 2,552. A breakout of burden hours for each report is listed below:

○ The burden hours for responding to the Exchange/Sale Report is estimated at 5 hours for each of the 44 estimated respondents, for a total of 220 burden hours.

○ The burden hours for responding to the Excess Personal Property Furnished to Non-Federal Recipients is estimated at 5 hours for each of the 44 estimated respondents, for a total of 220 burden hours.

○ The burden hours for responding to the Agency Report for Motor Vehicle Data is estimated at 24 hours for each of the 44 estimated respondents, for a total of 1056 burden hours.

○ The burden hours for responding to the Annual Motor Vehicle Fleet Report is estimated at 24 hours for each of the 44 estimated respondents, for a total of 1056 burden hours.

Authority: 41 CFR 102-39.75, 41 CFR 102-36.295 and 102-36.300, 41 CFR 102-34.335, OMB Circular A-11 section 25.5.

Issued in Washington, DC, on October 29, 2009.
Edward R. Simpson,
Director, Office of Procurement and Assistance Management, Department of Energy.

[FR Doc. E9-26695 Filed 11-4-09; 8:45 am]

BILLING CODE 6450-01-P